DEFENSE NUCLEAR FACILITIES SAFETY BOARD

Public Availability of Defense Nuclear Facilities Safety Board FY 2011 Service Contract Inventory Analysis/FY 2012 Service Contract Inventory

AGENCY: Defense Nuclear Facilities Safety Board (DNFSB).

ACTION: Notice of Public Availability of FY 2011 Service Contract Inventory Analysis and FY 2012 Service Contract Inventory.

SUMMARY: In accordance with Section 743 of Division C of the Consolidated Appropriations Act of 2010 (Pub. L. 111-117), DNFSB is publishing this notice to advise the public of the availability of (1) its analysis of the FY 2011 Service Contract inventory and (2) the FY 2012 Service Contract inventory. This inventory provides information on service contract actions over $25,000 that were made in FY 2012. The information is organized by function to show how contracted resources are distributed throughout the agency. The inventory has been developed in accordance with guidance issued on December 19, 2011, by the Office of Management and Budget's Office of Federal Procurement Policy (OFPP). OFPP's guidance is available at http://www.whitehouse.gov/sites/default/files/omb/procurement/memo/service-contract-inventory-guidance.pdf. DNFSB has posted its FY 2011 analysis and FY 2012 inventory and a summary of the inventory on the DNFSB homepage at the following link: http://www.dnfsb.gov/open.

FOR FURTHER INFORMATION CONTACT: Questions regarding the service contract inventory should be directed to Mark Welch at 202-694-7043 or Mailbox@dnfsb.gov.

Dated: February 14, 2013.
Debra H. Richardson,
Deputy General Manager.

[FR Doc. 2013-03896 Filed 2-20-13; 8:45 am]

BILLING CODE 3670-01-P